DEPARTMENT OF AGRICULTURE

Office of the Secretary

7 CFR Part 2

Revision of Delegation of Authority

AGENCY: Office of the Secretary, Department of Agriculture (USDA).

ACTION: Final rule.

SUMMARY: This document delegates to the Assistant Secretary for Administration the authority vested in the Secretary of Agriculture under the National Agriculture Research, Extension, and Teaching Policy Act of 1977 to enter into cooperative agreements and under the Farm Security and Rural Investment Act of 2002 to implement programs for the Federal procurement and voluntary labeling of biobased products. It also rescinds the delegation of authority to the Chief Economist to implement the biobased procurement and voluntary labeling programs.

DATES: These interim regulations are effective September 30, 2008. Comments are invited and should be received by October 30, 2008.

ADDRESSES: USDA, Departmental Administration, Room 209-A Whitten Building, 1400 Independence Avenue, SW., Washington, DC 20250-0103.

FOR FURTHER INFORMATION CONTACT: Mrs. Shana Love, Departmental Administration, Room 209-A Whitten Building, 1400 Independence Avenue, SW., Washington, DC 20250-0103; telephone: (202) 205-4008; fax: (202) 720-2191; e-mail: biopreferred@usda.gov. Information regarding the BioPreferred Program is available on the Internet at http://www.biopreferred.gov.

SUPPLEMENTARY INFORMATION: Section 9002 of the Farm Security and Rural Investment Act of 2002 (FSRIA), Public Law 107-171 established a program for the procurement of biobased products by Federal agencies and a voluntary program for labeling of biobased products. The Food, Conservation, and Energy Act of 2008, Public Law 110-246 continues the biobased markets program and adds provisions related to the program. USDA refers to the program for the Federal procurement of biobased products and the voluntary program for labeling of biobased products, collectively, as the BioPreferred Program (Program).

In an effort to make sure the Program continues to move forward and build demand for biobased products within the Federal government and commercially, management of the Program has been transferred from Office of the Chief Economist to Departmental Administration to enhance and strengthen the Program, as well as increase resources for research and analyses of emerging global energy issues and the necessary economic analysis of biobased products (that is, market identification, comparative costs with fossil energy derived product alternatives, and supply and demand estimations).

Section 1472 of the National Agriculture Research, Extension and Teaching Policy Act of 1977, Public Law 99-113 (7 U.S.C. 3318), grants the Secretary of Agriculture the authority to enter into cooperative agreements with Federal and State agencies and private organizations, to further research, extension, or teaching programs in the food and agricultural sciences of USDA. Because this authority does not extend to the Assistant Secretary for Administration, a delegation of the Secretary's authority is necessary. This document sets forth that delegation, as well as delegations to the Assistant Secretary for Administration relating to the biobased procurement and labeling programs included in the Farm Security and Rural Investment Act of 2002.

This rule relates to internal agency management. Therefore, pursuant to 5 U.S.C. 553, notice of proposed rule making and opportunity for comment are not required, and this rule may be made effective less than 30 days after publication in the Federal Register. Further, since this rule relates to internal agency management, it is exempt from the provisions of Executive Order 12988 and Executive Order 12866, amended by Executive Order 13258. In addition, this action is not a rule as defined by the Regulatory Flexibility Act, (5 U.S.C. 601 et seq.), and thus, is exempt from the provisions of that Act. Finally, this action is not a rule as defined in the Small Business Regulatory Fairness Enforcement Act, (5 U.S.C. 801 et seq.), and thus does not require review by Congress.

List of Subjects in 7 CFR Part 2

Authority delegations (government agencies).

Accordingly, 7 CFR part 2 is amended as follows:

PART 2—DELEGATIONS OF AUTHORITY BY THE SECRETARY OF AGRICULTURE AND GENERAL OFFICERS OF THE DEPARTMENT

1. The authority citation for part 2 continues to read as follows:

Authority: 7 U.S.C. 6912(a)(1), 5 U.S.C. 301; Reorganization Plan No. 2 of 1953, 3 CFR, 1949-1953 Comp., p. 1024.

Subpart C—Delegations of Authority to the Deputy Secretary, the Under Secretaries and Assistant Secretaries

2. Amend § 2.24 to add new paragraphs (a)(7)(i)(J) and (a)(7)(i)(K), to read as follows:

§ 2.24 Assistant Secretary for Administration.

(a) * * *

(7) * * *

(i) * * *

(J) Implementation of a program for the Federal procurement of biobased products in consultation with the Administrators of the Environmental Protection Agency and General Services Administration and the Director, National Institute of Standards and Technology; and establishment, in consultation with the Administrator of the Environmental Protection Agency, of a voluntary “USDA Certified Biobased Product” labeling program (7 U.S.C. 8102).

(K) Entering into cooperative agreements to further research programs in the food and agricultural sciences, related to establishing and implementing Federal biobased procurement and voluntary biobased labeling programs (7 U.S.C. 3318).

* * * * *

Subpart D—Delegations of Authority to Other General Officers and Agency Heads

§ 2.29 [Amended]

3. Amend § 2.29 as follows:

a. Remove paragraph (a)(11)(vii),

b. Redesignate paragraphs (a)(11)(viii) through (a)(11)(ix) as paragraphs (a)(11)(vii) through (a)(11)(xiii).

Dated: September 24, 2008.
Edward T. Schafer,
Secretary of Agriculture.

[FR Doc. E8-22959 Filed 9-29-08; 8:45 am]

BILLING CODE 3410-93-P